DEPARTMENT OF COMMERCE

National Oceanic and Atmospheric Administration

Ocean Exploration Advisory Board

AGENCY: Office of Ocean Exploration and Research (OER), National Oceanic and Atmospheric Administration (NOAA), Department of Commerce (DOC).

ACTION: Notice of public meeting.

SUMMARY: This notice sets forth the schedule and proposed agenda of a forthcoming meeting of the Ocean Exploration Advisory Board (OEAB). OEAB members will discuss and provide advice on Federal ocean exploration programs, with a particular emphasis on National Oceanic and Atmospheric Administration (NOAA), Office of Ocean Exploration and Research (OER) activities; the use of ships and other platforms in ocean exploration, including by non-for-profit organizations and the private sector; and other matters as described in the agenda found on the OEAB Web site at http://oeab.noaa.gov.

Time and Dates: The announced meeting is scheduled for Wednesday, February 22, 2017 from 12:00 p.m.-6:00 p.m. CST, and Thursday, February 23 from 8:30 a.m.-6:00 p.m. CST.

ADDRESSES: The meeting will be held at the University of Texas Institute for Geophysics, Research Office Complex, Building 196, Second Floor Conference Room, J.J. Pickle Research Campus, 10601 Exploration Way, Austin, TX 78758.

Status: The meeting will be open to the public with a 15-minute public comment period on Thursday, February 23, 2017 from 11:45 a.m. to 12:00 p.m. CST (please check the agenda on the Web site to confirm the time). The public may listen to the meeting and provide comments during the public comment period via teleconference. Dial-in information may be found on the meeting agenda posted to the OEAB Web site.

The OEAB expects that public statements at its meetings will not be repetitive of previously submitted verbal or written statements. In general, each individual or group making a verbal presentation will be limited to three minutes. The Designated Federal Officer must receive written comments by February 15, 2017 to provide sufficient time for OEAB review. Written comments received after February 15, 2017 will be distributed to the OEAB but may not be reviewed prior to the meeting date. Seats will be available on a first-come, first-served basis.

Special Accomodations: These meetings are physically accessible to people with disabilities. Requests for sign language interpretation or other auxiliary aids should be directed to David McKinnie, Designated Federal Officer (see below) by February 15, 2017.

FOR FURTHER INFORMATION CONTACT: Mr. David McKinnie, Designated Federal Officer, Ocean Exploration Advisory Board, National Oceanic and Atmospheric Administration, 7600 Sand Point Way NE., Seattle, WA 98115, (206) 526-6950.

SUPPLEMENTARY INFORMATION: NOAA established the OEAB under the Federal Advisory Committee Act (FACA) and legislation that gives the agency statutory authority to operate an ocean exploration program and to coordinate a national program of ocean exploration. The OEAB advises NOAA leadership on strategic planning, exploration priorities, competitive ocean exploration grant programs and other matters as the NOAA Administrator requests.

OEAB members represent government agencies, the private sector, academic institutions, and not-for-profit institutions involved in all facets of ocean exploration—from advanced technology to citizen exploration.

In addition to advising NOAA leadership, NOAA expects the OEAB to help to define and develop a national program of ocean exploration—a network of stakeholders and partnerships advancing national priorities for ocean exploration.

Dated: January 17, 2017.
Jason Donaldson,
Chief Financial Officer, Office of Oceanic and Atmospheric Research, National Oceanic and Atmospheric Administration.

[FR Doc. 2017-01859 Filed 1-26-17; 8:45 am]

BILLING CODE 3510-KA-P